DEPARTMENT OF HEALTH AND HUMAN SERVICES

Health Resources and Services Administration

National Advisory Council on the National Health Service Corps; Request for Nominations

AGENCY: Health Resources and Services Administration, HHS.

ACTION: Notice.

SUMMARY: The Health Resources and Services Administration (HRSA) is requesting nominations to fill five (5) vacancies on the National Advisory Council (NAC) on the National Health Service Corps (NHSC). The NAC on NHSC was established in 1978.

DATES: The agency must receive nominations on or before March 13, 2013.

ADDRESSES: All nominations should be sent electronically to Njeri Jones at NJones@hrsa.gov or mailed to 5600 Fishers Lane, Room 13-64, Rockville, MD 20857.

FOR FURTHER INFORMATION CONTACT: Kim Huffman, Executive Secretary, National Advisory Council on the National Health Service Corps, at (301) 443-3863 or email KHuffman@hrsa.gov.

SUPPLEMENTARY INFORMATION: The National Advisory Council on the National Health Service Corps (hereafter referred to as NAC) was established under 42 U.S.C. 254j (Section 337 of the Public Health Service Act), as amended by Section 10501 of the Affordable Care Act. The NAC is governed by provisions of Public Law 92-463 (5 U.S.C. App.2), also known as the Federal Advisory Committee Act, which sets forth standards for the formation and use of advisory committees.

The NAC is a group of health care providers and health care site administrators who are experts in the issues that communities with a shortage of primary care professionals face in meeting their health care needs. The NAC is a frontline source of information to the NHSC senior management. The NAC is committed to effectively implementing its mandate to advise the Secretary of the Department of Health and Human Services (HHS) and, by designation, the Administrator of the Health Resources and Services Administration (HRSA).

The NAC consists of 15 members who are Special Government Employees. Responsibilities of the Council include: (1) Serving as a forum to identify the priorities for the NHSC and to bring forward and anticipate future program issues and concerns through ongoing communication with program staff, professional organizations, communities, and program participants; (2) Functioning as a sounding board for proposed policy changes by utilizing the varying levels of expertise represented on the Council to advise on specific program areas; and, (3) Developing and distributing white papers and briefs that clearly state issues and/or concerns relating to the NHSC with specific recommendations for necessary policy revisions.

Specifically, HRSA is requesting nominations for individuals with a background in primary care, dental health, and mental health representing one or more of the following areas of expertise: working with underserved populations, health care policy, recruitment and retention, site administration, customer service, marketing, organizational partnerships, research, and clinical practice. We are looking for nominees that either currently or have previously filled a role as site administrators, physicians, dentists, mid-level professionals (i.e., nurses, physician assistants), mental or behavioral health professionals, or NHSC scholars or loan repayors. Nominees will be invited to serve a 3-year term beginning after September 30, 2013.

HHS will consider nominations of all qualified individuals with a view to ensuring that the NAC includes the areas of subject matter expertise noted above and reflects the diverse primary care health care workforce and health delivery sites. Individuals may nominate themselves or other individuals, and professional associations and organizations may nominate one or more qualified persons for membership on the Council. Nominations shall state that the nominee is willing to serve as a member of the NAC and appears to have no conflict of interest that would preclude the membership. Potential candidates will be contacted by NHSC and asked to provide detailed information concerning financial interests, consultancies, research grants, and/or contracts that might be affected by recommendations of the Committee, to permit evaluation of possible sources of conflicts of interest.

A nomination package should include the following information for each nominee: (1) A letter of nomination (no more than 2) stating the name, affiliation, and contact information for the nominee, the basis for the nomination (i.e., what specific attributes, perspectives, and/or skills does the individual possess that would benefit the workings of NAC), and the nominees field(s) of expertise; (2) a biography of the nominee and a copy of his/her curriculum vitae; and (3) the name, address, daytime telephone number, and email address at which the nominator can be contacted. HRSA will accept self-nominations. Note: If you submitted a nomination on someone's behalf or a self-nomination in spring of 2012 and would like to be considered again, please send a complete packet of the information requested above.

HHS has special interest in assuring that women, minority groups, veterans, and individuals with disabilities are adequately represented on advisory committees; and therefore, extends particular encouragement to nominations for appropriately qualified female, minority, veterans, or individuals with disabilities.

Dated: February 5, 2013.
Bahar Niakan,
Director, Division of Policy and Information Coordination.

[FR Doc. 2013-03006 Filed 2-8-13; 8:45 am]

BILLING CODE 4165-15-P